DEPARTMENT OF ENERGY

Federal Energy Regulatory Commission

[Docket No. CP04-48-002]

Chandeleur Pipe Line Company; Notice of Application for Amendment

March 10, 2009.

Take notice that on March 3, 2009, Chandeleur Pipe Line Company (Chandeleur) filed with the Commission an application pursuant to section 7(c) of the Natural Gas Act (NGA), as amended, and part 157 of the Commission's regulations seeking an amendment of the existing authorization issued to Chandeleur on May 11, 2004 ¹ in Docket No CP04-48-000 (May 11 Order) for the acquisition from Chevron Natural Gas Pipe Line LLC (Chevron) of Chevron's interest in the Mobile Area Gathering System (MAGS), an offshore gathering pipeline.

¹ 107 FERC ¶ 61,162 (2004).

Specifically, by the application, Chandeleur requests that the Commission amend the Certificate of Public Convenience and Necessity issued in the May 11 Order to authorize Chandeleur to acquire the interest of Murphy Exploration & Production Company (Murphy) in the MO 908 Segment of the MAGS System. The acquisition by Chandeleur of this remaining interest will complete Chandeleur's ownership of the MAGS System.

Copies of this filing are available for review at the Commission's Washington, DC offices, or may be viewed on the Web at http://www.ferc.gov using the “eLibrary” link. Enter the docket number excluding the last three digits in the docket number field to access the document. For assistance, contact FERC at FERCOnlineSupport@ferc.gov or call toll-free, (801) 584-6851.

Any questions regarding this application should be directed to Jeffrey L. Kirk, at 4800 Fournace Place, Bellaire, Texas 77401, or by telephone at (713) 432-6753, or via e-mail at jkgv@chevron.com.

There are two ways to become involved in the Commission's review of this application. First, any person wishing to obtain legal status by becoming a party to this proceeding should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to the project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a) (1) (iii) and the instructions on the Commission's Web site (http://www.ferc.gov) under the “e-Filing” link. Persons unable to file electronically should submit an original and 14 copies of the protest or intervention to the Federal Energy Regulatory Commission, 888 First Street, NE., Washington, DC 20426.

Comment Date: March 31, 2009.

Kimberly D. Bose,
Secretary.

[FR Doc. E9-5684 Filed 3-16-09; 8:45 am]

BILLING CODE 6717-01-P